DEPARTMENT OF LABOR

Office of the Secretary

Submission for OMB Review; Comment Request

November 29, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New collection.

Agency: Employment and Training Administration.

Title: O*NET Data Collection Program.

OMB Number: 1205-0New.

Affected Public: Individuals or households; Businesses or other for-profit; Not-for-profit institutions; Farms; Federal Government; State, Local, or Tribal government;

Frequency: Survey to be repeated every three to five years, depending on the occupation.

Number of Respondents: 51,300.

Estimated Time Per Respondent: 1 hour, 35 minutes per participating business, 30 minutes per employee respondent.

Total Burden Hours: 23,305.

Total annualized capital/startup costs: $0.

Total annual costs (operating/maintainng systems or purchasing services): $0.

Description: The O*NET Data Collection Program will yield information on worker and job characteristics to populate the O*NET (Occupational Information Network) database. O*NET is replacing the obsolete Dictionary of Occupational Titles, and will be used for a wide range of purposes related to employment and training program administration, career counseling and development, training curriculum design, Employment Service job orders and referrals, development of Labor Market Information, rehabilitation and disability programs, and private sector human resources functions. The survey will include contacting businesses to gain their cooperation, and collecting information from employees of cooperating businesses. For a small number of occupations, professional associations will be contacted to gain their cooperation in providing member lists for surveying. Subject matter experts will also be surveyed in a limited number of cases.

Type of Review: Extension of a currently approved collection.

Agency: Employment and Training Administration.

Title: Workforce Investment Act Cumulative Quarterly Financial Reporting for Funds Allotted to States for Services to Youth, Services to Adults, Services to Dislocated Workers, Local Area Administration, Statewide Activities (15% of Total Federal Allotment), and Statewide Rapid Response.

OMB Number: 1205-0408.

Frequency: Quarterly.

Affected Public: States, Local, or Tribal governments; Business or other for-profit; Not-for-profit institutions.

Number of Respondents: 56.

DOL-ETA Reporting Burden for WIA Title I-B States
Requirements | PY 1999 | PY 2000 | PY 2001 | PY 2002
Number of Reports Per Entity Per Quarter | 3 | 3 | 3 | 3
Total Number of Reports Per Entity Per Year | 12 | 12 | 12 | 12
Number of Hours Required Per Report | 1 | 1 | 1 | 1
Total Number of Hours Required for Reporting Per Entity Per Year | 12 | 12 | 12 | 12
Number of Entities Reporting | 16 | 56 | 56 | 56
Total Number of Hours Required for Reporting Burden Per Year | 192 | 672 | 672 | 672

Note: Number of reports required per entity per quarter/per year is impacted by the 3 year life of each year of appropriated funds, i.e., PY 1997 and 1998 funds are available for expenditure in PY 1999, thus 3 reports reflect 3 available funding years. DOL estimates 16 entities reporting for PY 1999. Beginning in PY 2000, all entities (56) are required to report under WIA.

Total Burden Cost (capital/start): $0.

Total Burden Cost (operating/maintaining): $0.

Description: This Information Collection Request (ICR) incorporates the necessary reporting instructions for States to report financial data related to Workforce Investment Act programs to DOL. These instructions have been prepared in response to the requirement set forth at 20 CFR 667.300, for DOL to issue financial reporting instructions to States; and to ensure State compliance with the reporting elements contained in the Workforce Investment Act (WIA) of 1998, Subtitle E, Sec. 185. The WIA requires quarterly financial reports, which shall include information identifying all program and activity costs by cost category in accordance with generally accepted accounting principles and by year of appropriation. The WIA also requires reporting any income or profits earned, including such income or profits earned by sub-recipients and any costs incurred (such as stand-in costs) that are otherwise allowable except for funding limitations. In addition, WIA requires the reporting of costs only as administrative or programmatic, with computerization/technology costs not included in the administrative cost limit calculation.

The Standard Form 269 has been modified to provide the six reporting formats which will be used for WIA reporting. Separate reporting formats will be needed for: (1) Local area youth, (2) local area adults, (3) local area dislocated workers, (4) local administration, (5) Statewide activities (15% total Federal allotment), and (6) Statewide rapid response.

ETA has designed software that contains the data elements required for each of the reporting formats. Instructions corresponding to the required data elements have been provided to the States in the software package. Transmittal of this data will occur on a quarterly basis via the Internet.

The data collection and reporting requirements requested by the Employment and Training Administration are necessary to effectively manage and evaluate the financial status of the WIA program, to measure regulatory compliance, to prepare required reports to Congress, and for audit purposes.

Ira L. Mills,
Departmental Clearance Officer.

[FR Doc. 00-31042 Filed 12-5-00; 8:45 am]

BILLING CODE 4510-30-M